DEPARTMENT OF ENERGY

Federal Energy Regulatory Commission

[Docket No. ER02-254-000, et al.]

Sierra Pacific Power Company, et al.; Electric Rate and Corporate Regulation Filings

November 9, 2001.

Take notice that the following filings have been made with the Commission:

1. Sierra Pacific Power Company

[Docket No. ER02-254-000]

Take notice that on November 7, 2001, Sierra Pacific Power Company (Sierra) filed with the Federal Energy Regulatory Commission (Commission), pursuant to Section 205 of the Federal Power Act, an executed Interconnection Agreement between Nevada Power and Duke Washoe LLC (Duke). This agreement governs the terms and conditions of the interconnection to Sierra's transmission system of Duke's 540 MW electric generation facility located in Washoe County, Nevada. Sierra requests that the Interconnection Agreement be made effective as of October 30, 2001, which is the date that it was executed.

Comment date: November 28, 2001, in accordance with Standard Paragraph E at the end of this notice.

2. Jersey Central Power & Light Company, Metropolitan Edison Company, and Pennsylvania Electric Company.

[Docket No. ER02-274-000]

Take notice that on November 6, 2001, Jersey Central Power & Light Company, Metropolitan Edison Company, Pennsylvania Electric Company (d/b/a GPU Energy) tendered for filing with the Federal Energy Regulatory Commission (Commission) , Service Agreement with Enron Power Marketing, Inc., dated October 23, 2001 designated as Service Agreement No. 36, FERC Electric Tariff, Second Revised Vol. No. 5.

GPU Energy request an effective date of October 23, 2001.

Comment date: November 27, 2001, in accordance with Standard Paragraph E at the end of this notice.

3. Wisconsin Electric Power Company

[Docket No. ER02-275-000]

Take notice that on November 6, 2001, Wisconsin Electric Power Company (Wisconsin Electric) tendered for filing with the Federal Energy Regulatory Commission (Commission) two Generation-Transmission Must Run Agreements with American Transmission Company, LLC. The Must Run Agreements govern the terms and conditions for the dispatch of real and reactive power from Wisconsin Electric's Oak Creek Power Plant and the Presque Isle Power Plant and Upper Peninsula of Michigan Hydroelectric Plants to maintain the reliability of ATCLLC's transmission system.

Wisconsin Electric requests that the Must Run Agreements be made effective on December 15, 2001.

Comment date: November 27, 2001, in accordance with Standard Paragraph E at the end of this notice.

4. Southwest Power Pool, Inc.

[Docket No. ER02-276-000]

Take notice that on November 6, 2001, Southwest Power Pool, Inc. (SPP) submitted for filing with the Federal Energy Regulatory Commission (Commission) an executed service agreement for Firm Point-to-Point Transmission Service with Western Resources Generation Services (Transmission Customer). SPP requests an effective date of November, 2001 for this service agreement.

A copy of this filing was served on the Transmission Customer.

Comment date: November 27, 2001, in accordance with Standard Paragraph E at the end of this notice.

5. Entergy Services, Inc.

[Docket No. ER02-277-000]

Take notice that on November 7, 2001, Entergy Services, Inc. (Entergy Services), on behalf of Entergy Arkansas, Inc., submitted for filing with the Federal Energy Regulatory Commission (Commission) Amendment “B” to the Independence Steam Electric Station Operating Agreement (Operating Agreement) between Entergy Arkansas, Inc., the Arkansas Electric Cooperative Corporation, the Cities of Conway, Jonesboro, Osceola, and West Memphis, Arkansas, Entergy Power, Inc., Entergy Mississippi, Inc. and East Texas Electric Cooperative, Inc. Entergy Services states that Amendment “B” waives any rights that the parties to the Operating Agreement may have with respect to the option to provide substitute coal pursuant section 7.3 of the Operating Agreement.

Comment date: November 28, 2001, in accordance with Standard Paragraph E at the end of this notice.

6. Commonwealth Edison Company

[Docket No. ER02-278-000]

Take notice that on November 7, 2001 Commonwealth Edison Company (ComEd) submitted for filing with the Federal Energy Regulatory Commission (Commission) three Form of Service Agreements for Firm Point-to-Point Transmission Service (Service Agreements) between ComEd and Wisconsin Public Service Corporation (Wisconsin) under the terms of ComEd's Open Access Transmission Tariff (OATT). Copies of this filing were served on Wisconsin.

ComEd requests an effective date of January 1, 2002, and accordingly seeks waiver of the Commission's notice requirements.

Comment date: November 28, 2001, in accordance with Standard Paragraph E at the end of this notice.

7. American Transmission Company LLC

[Docket No. ER02-279-000]

Take notice that on November 7, 2001, American Transmission Company LLC (ATCLLC) tendered for filing with the Federal Energy Regulatory Commission (Commission) an executed Distribution-Transmission Interconnection Agreement between ATCLLC and Central Wisconsin Electric Cooperative. ATCLLC requests an effective date of June 29, 2001.

Comment date: November 28, 2001, in accordance with Standard Paragraph E at the end of this notice.

8. American Transmission Company LLC

[Docket No. ER02-280-000]

Take notice that on November 7, 2001, American Transmission Company LLC (ATCLLC) tendered for filing with the Federal Energy Regulatory Commission (Commission) an executed Distribution-Transmission Interconnection Agreement between ATCLLC and City of Sheboygan Falls.

ATCLLC requests an effective date of June 25, 2001.

Comment date: November 28, 2001, in accordance with Standard Paragraph E at the end of this notice.

9. Avista Corporation

[Docket No. ER02-281-000]

Take notice that on November 7, 2001, Avista Corporation, tendered for filing with the Federal Energy Regulatory Commission (Commission) pursuant to section 35.12 of the Commission's 18 CFR part 35.12 (1999), an executed Mutual Netting Agreement with TransAlta Energy Marketing (U.S.) Inc., effective October 1, 2001.

Notice of the filing has been served to TransAlta Energy Marketing (U.S.) Inc.

Comment date: November 28, 2001, in accordance with Standard Paragraph E at the end of this notice.

10. American Electric Power

[Docket No. ER02-282-000]

Take notice that on November 6, 2001, American Electric Power Service Corporation, tendered for filing with the Federal Energy Regulatory Commission (Commission)a Facilities, Operation and Maintenance Agreement (Facility Agreement) dated June 1, 2001, between AEP, agent for Columbus Southern Power Company (d/b/a AEP) and Buckeye Rural Electric Cooperative, Inc. (hereinafter called BREC) and Buckeye Power, Inc. (hereinafter called Buckeye). AEP states that copies of its filing were served upon BREC, Buckeye and the Public Utilities Commission of Ohio.

The Facility Agreement provides for the establishment of a new delivery point, pursuant to provisions of the Power Delivery Agreement between Columbus Southern Power, Buckeye Power, Inc. (hereinafter called Buckeye), The Cincinnati Gas & Electric Company, The Dayton Power and Light Company, Monongahela Power Company, Ohio Power Company and Toledo Edison Company, dated January 1, 1968. AEP requests an effective date of June 8, 2001 for the Facility Agreement.

Comment date: November 27, 2001, in accordance with Standard Paragraph E at the end of this notice.

11. Arizona Public Service Company

[Docket No. ER02-283-000]

Take notice that on November 7, 2001, Arizona Public Service Company (APS) tendered for filing with the Federal Energy Regulatory Commission (Commission) Service Agreement No. 174 under FERC Electric Tariff, Eighth Revised Volume No. 2, effective date May 15, 2001 is to be canceled. Notice of the proposed cancellation has been served upon Pinnacle West Energy and The Arizona Corporation Commission.

APS requested an effective date of October 31, 2001.

Comment date: November 28, 2001, in accordance with Standard Paragraph E at the end of this notice.

12. Tucson Electric Power Company

[Docket No. ER02-284-000]

Take notice that on November 7, 2001, Tucson Electric Power Company tendered for filing with the Federal Energy Regulatory Commission (Commission) one (1) Service Agreement (for short-term firm service) pursuant to Part II of Tucson's Open Access Transmission Tariff, which was filed in Docket No. ER01-208-000.

The Service Agreement for Firm Point-to Point Transmission Service dated as of October 31, 2001 by and between Tucson Electric Power Company and Public Service Company of New Mexico—FERC Electric Tariff Vol. No. 2, Service Agreement No. 148. No service has commenced at this time.

Comment date: November 28, 2001, in accordance with Standard Paragraph E at the end of this notice.

13. American Transmission Company LLC

[Docket No. ER02-285-000]

Take notice that on November 7, 2001, American Transmission Company LLC (ATCLLC) tendered for filing with the Federal Energy Regulatory Commission (Commission) proposed changes to its Open Access Transmission Tariff to provide for ATCLLC's collection of must run generation costs from network customers on a phase-in basis.

ATCLLC requests that the proposed changes be made effective on December 1, 2001.

Comment date: November 28, 2001, in accordance with Standard Paragraph E at the end of this notice.

14. Mid-Continent Area Power Pool

[Docket No. ER02-286-000]

Take notice that on November 7, 2001, the Mid-Continent Area Power Pool (MAPP), on behalf of its public utility members, filed with the Federal Energy Regulatory Commission (Commission) long term firm, short-term firm and non-firm transmission service agreements under MAPP Schedule F, FERC Electric Tariff, First Revised Volume No. 1. Included are TSAs for transmission service with NSP Power Merchants and Saskatchewan Power Corporation.

Comment date: November 28, 2001, in accordance with Standard Paragraph E at the end of this notice.

15. Mid-Continent Area Power Pool

[Docket No. ER02-287-000]

Take notice that on November 7, 2001, the Mid-Continent Area Power Pool (MAPP), on behalf of its public utility members, filed with the Federal Energy Regulatory Commission (Commission) a service agreement with Saskatchewan Power Corporation under MAPP Schedule R of the Restated Agreement, FERC Electric Tariff, Original Volume No. 2.

Comment date: November 28, 2001, in accordance with Standard Paragraph E at the end of this notice.

16. IDACORP Energy, LP

[Docket No. ER01-2395-002]

Take notice that on November 7, 2001, IDACORP Energy LP is refiling with the Federal Energy Regulatory Commission (Commission) its Notice of Succession. In addition, IDACORP Energy is filing its newly adopted tariff and service agreement containing designations consistent with Commission regulations.

Comment date: November 28, 2001, in accordance with Standard Paragraph E at the end of this notice.

17. Entergy Power Ventures, L.P.

[Docket No. EG02-25-000]

Take notice that on November 6, 2001, Entergy Power Ventures, L.P., 20 Greenway Plaza, Suite 1025, Houston, Texas 77046, filed with the Federal Energy Regulatory Commission an application for determination of exempt wholesale generator status pursuant to section 32(a)(1) of the Public Utility Holding Company Act of 1935, as amended.

The applicant is a limited partnership that will be engaged directly or indirectly and exclusively in the business of developing and ultimately owning and/or operating an interest in a 550 megawatt gas-fired, simple cycle electric generating facility located in Harrison County, Texas and selling electric energy at wholesale.

Comment date: November 30, 2001, in accordance with Standard Paragraph E at the end of this notice. The Commission will limit it consideration of comments to those that concern the adequacy or accuracy or the application.

18. Canastota Windpower, LLC

[Docket No. ER01-2692-002]

Take notice that on November 6, 2001, Canastota Windpower, LLC (Canastota or Applicant) tendered for filing with the Federal Energy Regulatory Commission (Commission) Amended and Restated Application for Order Authorizing Market-based Rates, Waiving Regulations and Granting Blanket Approvals, pursuant to Commission letter dated October 11, 2001 request for additional information.

Comment date: November 27, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-28778 Filed 11-16-01; 8:45 am]

BILLING CODE 6717-01-P